DEPARTMENT OF EDUCATION

Applications for New Awards; Technical Assistance and Dissemination To Improve Services and Results for Children With Disabilities

AGENCY: Office of Special Education Programs, Department of Education.

ACTION: Notice.

Overview Information

Technical Assistance and Dissemination to Improve Services and Results for Children with Disabilities—National Center for Students with Disabilities Who Require Intensive Interventions. Notice inviting applications for new awards for fiscal year (FY) 2011.

Catalog of Federal Domestic Assistance (CFDA) Number: 84.326Q.

DATES: Applications Available: August 12, 2011.

Deadline for Transmittal of Applications: September 12, 2011.

Full Text of Announcement

I. Funding Opportunity Description

Purpose of Program: The purpose of the Technical Assistance and Dissemination to Improve Services and Results for Children with Disabilities program is to promote academic achievement and to improve results for children with disabilities by providing technical assistance (TA), supporting model demonstration projects, disseminating useful information, and implementing activities that are supported by scientifically based research.

Priority: In accordance with 34 CFR 75.105(b)(2)(v), this priority is from allowable activities specified in the statute or otherwise authorized in the statute (see sections 663 and 681(d) of the Individuals with Disabilities Education Act (IDEA), 20 U.S.C. 1463 and 1481(d)).

Absolute Priority: For FY 2011 and any subsequent year in which we make awards based on the list of unfunded applicants from this competition, this priority is an absolute priority. Under 34 CFR 75.105(c)(3) we consider only applications that meet this priority.

This priority is:

Technical Assistance and Dissemination To Improve Services and Results for Children With Disabilities—National Center for Students With Disabilities Who Require Intensive Interventions

Background

Despite efforts by school personnel to improve academic and school-based behaviors, many students with disabilities continue to struggle in school. For example, 65 percent of fourth graders with disabilities and 62 percent of eighth graders with disabilities who participated in the 2009 National Assessment of Educational Progress (NAEP) scored below the basic level in reading achievement in contrast with 33 percent of fourth graders and 25 percent of eighth graders without disabilities (U.S. Department of Education, 2010). Results from the National Longitudinal Transition Study-2 (NLTS2) indicate that students with disabilities, on average, are more than three years behind grade level in reading and mathematics abilities. Further, approximately 20 percent of students with disabilities have difficulty controlling their behavior in class, and 35 percent of students with disabilities have been involved in some type of disciplinary action (Wagner et al., 2003).

Many students in a typical classroom setting make academic progress and improve their behavior when they receive high-quality scientifically based instruction and supports. Those students who do not make progress under such conditions may require intensive interventions. Intensive interventions are interventions that are specifically designed to address a student's persistent learning or behavior difficulties and are implemented with greater frequency than in a typical classroom setting and for an extended duration, either individually or in small groups (Wanzek & Vaughn, 2010). Intensive interventions require educators to have knowledge and skills in implementing multiple evidence-based interventions. In addition, more than what is required of educators in a typical classroom setting, intensive interventions require that educators use a student's ongoing assessment data to continually evaluate the effectiveness of their instructional approach in improving the student's learning or behavioral performance. Based on the student's performance, an educator will need to change intervention approaches, when needed, to meet a student's specific learning needs (Fuchs & Fuchs, 2009).

Research has demonstrated the effectiveness of intensive interventions in improving reading (e.g., Allor, Mathes, Roberts, Cheatham, & Champlin, 2010; Kamps, Greenwood, Wills, Veerkamp, & Kaufman, 2008; Mautone, DuPaul, Jitendra, Tresco, Junod, & Volpe, 2009; Scammacca, N., Vaughn, S., Roberts, G., Wanzek, J., & Torgesen, J. K., 2007; Vaughn, Denton, & Fletcher, 2010; Wanzek & Vaughn, 2010), mathematics (e.g, Fuchs, Fuchs, Powell, Seethaler, Cirino, & Fletcher, 2008; Gersten et al., 2009) and behavior (e.g., Eikeseth, Smith, Jahr, & Eldevik, 2002; Fairbanks, Sugai, Guardino, & Lathrop, 2007; Freeman et al., 2006; O'Connor & Healy, 2010) for students at-risk of, or identified as, having disabilities. In addition, the use of a student's assessment data to make instructional changes that result in improved student outcomes has been well-documented (e.g., see Fuchs & Fuchs, 1986; Shapiro, Edwards, & Zigmond, 2005; Stecker, Fuchs, & Fuchs, 2005). Furthermore, there is evidence that training on, and supports for, using student's ongoing assessment data can improve an educator's ability to plan and identify appropriate instructional or behavioral programs (e.g., Cook et al., 2007; Roehrig et al., 2008; Stecker et al., 2005).

Notwithstanding this body of knowledge, multiple studies have documented that educators find it difficult to implement individualized instructional or behavioral interventions for a variety of reasons (e.g., Kern, Hilt-Panahon, & Sokol, 2009; Vaughn, Moody, & Schumm, 1998; Swanson & Vaughn, 2010). For example, educators report that they have not received adequate professional development on how to adapt materials, activities, and strategies for individualized instruction (e.g., Boardman et al., 2005; Bryant, Linan-Thompson, Ugel, Hamff, & Hoegen, 2001; Roehrig, Duggar, Moats, Glover, & Mincey, 2008; Schumm & Vaughn, 1995). Similarly, educators report gaps in their ability to effectively use student data to make appropriate individualized instructional or behavioral intervention changes (e.g. Bambara, Nonnemacher, & Kern, 2009; Roehrig et al., 2008; Stecker et al., 2005).

Local educational agencies (LEAs) struggle with how best to support schools' and educators' implementation of intensive interventions (Boardman, Arguelles, Vaughn, Hughes, & Klingner, 2005). Implementing and sustaining evidence-based and intensive interventions requires support at multiple levels in the education system. Several components of State, LEA, and school systems have been identified as important supports for successful implementation and sustainability of interventions; these components include staff development, leadership support, and organizational resources (e.g., Bambara et al., 2009; Denton, Vaughn, & Fletcher, 2003; Durlak & DuPre, 2008; Fixsen et al., 2005; Lewis, Barrett, Sugai & Horner, 2010; Sadler & Sugai, 2009; Sugai et al., 2010). If implementation supports (e.g., staff development) are not provided at multiple system levels, educators' capacity to implement intensive interventions may be limited and, in turn, may negatively affect a student's academic and behavioral outcomes. The optimal goal for educators in working with students with learning or behavior disabilities is not only to ensure that students make progress in acquiring the necessary skills to succeed in school but also to accelerate the acquisition of such skills so that students master grade-level content. LEAs need assistance to support schools and educators in implementing and sustaining effective intensive academic and behavioral interventions for students with disabilities.

The Office of Special Education Programs (OSEP) proposes to support a new national center that will focus on intensive academic and behavioral interventions for students with disabilities with persistent learning or behavior difficulties who are not those with the most significant cognitive disabilities.

Priority

The purpose of this priority is to fund a cooperative agreement to support the establishment and operation of a National Center for Students with Disabilities Who Require Intensive Interventions (Center) that will: (1) Identify and disseminate evidence-based ¹ intensive interventions ² or sets of interventions in the areas of reading, mathematics, and behavior for students with disabilities with persistent learning or behavioral difficulties who are not those with the most significant cognitive disabilities (the targeted students); (2) identify LEA and school system components (e.g., staff development, leadership support, and organizational resources) that affect the implementation and sustainability of effective intensive academic and behavioral interventions; (3) develop universally available resources and strategies for LEAs to use in supporting schools and educators in the implementation of evidence-based intensive interventions for the targeted students; and (4) provide intensive TA to 12 LEAs to assist them in building their capacity to support schools and educators' implementation of intensive reading, mathematics, and behavior interventions for the targeted students.

¹ For the purposes of this priority, evidence-based means practices for which there is “strong evidence” or “moderate evidence” of effectiveness as defined in the Department's notice of final supplemental priorities and definitions for discretionary grant programs, published in the Federal Register on December 15, 2010 (75 FR 78486) (http://www2.ed.gov/legislation/FedRegister/other/2010-4/121510b.html).

² For purposes of this priority, intensive interventions or intensive academic and behavioral interventions means interventions that are specifically designed to address a student's persistent learning or behavior difficulties and are implemented with greater frequency than in a typical classroom setting and for an extended duration, either individually or in small groups.

To be considered for funding under this absolute priority, applicants must meet the application requirements contained in this priority. Any project funded under this absolute priority also must meet the programmatic and administrative requirements specified in the priority.

Application Requirements

An applicant must include in its application—

(a) A logic model that depicts, at a minimum, the goals, activities, outputs, and outcomes of the proposed project. A logic model communicates how a project will achieve its outcomes and provides a framework for both the formative and summative evaluations of the project;

Note: The following Web sites provide more information on logic models: http://www.researchutilization.org/matrix/logicmodel_resource3c.html and http://www.tadnet.org/model_and_performance.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A plan for recruiting and selecting 12 LEAs, in a minimum of three States, including one or more high-need LEAs ³ and one or more rural LEAs in each State,⁴ to receive intensive technical assistance in building capacity to support schools and educators to implement intensive interventions for the targeted students. The plan must include the criteria the Center will use to select LEAs to receive the intensive technical assistance;

³ Section 2102(3) of the ESEA defines a high-need LEA as an LEA—(a) That serves not fewer than 10,000 children from families with incomes below the poverty line (as that term is defined in section 9101(33) of the ESEA), or for which not less than 20 percent of the children served by the LEA are from families with incomes below the poverty line; and (b) For which there is (1) a high percentage of teachers not teaching in the academic subjects or grade levels that the teachers were trained to teach, or (2) a high percentage of teachers with emergency, provisional, or temporary certification or licensing.

⁴ Rural LEA means an LEA that is eligible under the Small Rural School Achievement (SRSA) program or the Rural and Low-Income School (RLIS) program authorized under Title VI, Part B of the ESEA. Applicants may determine whether a particular LEA is eligible for these programs by referring to the information on the following Department Web sites. For SRSA: http://www2.ed.gov/programs/reapsrsa/index.html For RLIS: http://www.ed.gov/programs/reaprlisp/eligibility.html.

(e) A budget for a summative evaluation to be conducted by an independent third party;

(f) A budget for attendance at the following:

(1) A one and one half-day kick-off meeting to be held in Washington, DC, within four weeks after receipt of the award, and an annual planning meeting held in Washington, DC, with the OSEP Project Officer during each subsequent year of the project period.

(2) A three-day Project Directors' Conference in Washington, DC, during each year of the project period.

(3) Two, two-day trips annually to attend Department briefings, Department-sponsored conferences, and other meetings, as requested by OSEP; and

(g) A line item in the proposed budget for an annual set-aside of five percent of the grant amount to support emerging needs that are consistent with the proposed project's activities, as those needs are identified in consultation with OSEP.

Note: With approval from the OSEP Project Officer, the Center must reallocate any remaining funds from this annual set-aside no later than the end of the third quarter of each budget period.

Project Activities. To meet the requirements of this priority, the Center, at a minimum, must conduct the following activities:

Knowledge Development Activities

(a) Review available research on intensive academic and behavioral interventions for the targeted students, including research on LEA and school system components (e.g., staff development, leadership support, and organizational resources) that facilitate or limit the implementation and sustainability of intensive interventions. In conducting this review of studies and related evidence, the Center must use standards that are consistent with those used by the What Works Clearinghouse (http://ies.ed.gov/ncee/wwc/) and the definitions of strong evidence and moderate evidence contained in the notice of final priorities and definitions for discretionary grants programs, published in the Federal Register on December 15, 2010 (75 FR 78486) (http://www2.ed.gov/legislation/FedRegister/other/2010-4/121510b.html). If the Center determines that it cannot conduct the review using these standards, it must develop and use other rigorous standards.

(b) Based on the research review conducted under paragraph (a) of these Knowledge Development Activities, as well as ongoing input from OSEP and the advisory committee established under paragraph (a) of the Leadership and Coordination Activities, prepare state-of-knowledge papers that synthesize the research on—

(1) Intensive academic and behavioral interventions (e.g., programs, practices, or instructional approaches) for the targeted students, to be completed in the first six months of the project period; and

(2) Professional development models that improve the implementation of intensive academic and behavioral interventions for the targeted students, including strategies for how to effectively use student data to make instructional or behavioral intervention changes and how to adapt materials, activities, and strategies for individualized instruction, to be completed in the first year of the project period; and

(3) LEA and school system components (e.g., staff development, leadership support, and organizational resources) that facilitate or limit the implementation and sustainability of intensive interventions, including in high-need and rural LEAs, to be completed by the end of the second year of the project period.

These papers must present the research in a format that is accessible to the Center's relevant audiences, including LEAs, educators, and researchers. The papers must also provide useful recommendations, with specific reference to the evidence base upon which the recommendations are founded that can be incorporated into the Center's technical assistance activities. The Center must submit these papers for review to the advisory committee, and, once the papers are approved by the advisory committee, disseminate the papers according to the dissemination strategy developed under paragraph (f) of the Leadership and Coordination Activities.

(c) Identify and conduct site analyses of LEAs and schools that are implementing evidence-based intensive interventions for the targeted students in the areas of reading, mathematics, or behavior and that might serve as potential model demonstration sites. The Center must identify and describe the intensive interventions being implemented, including the evidence base for these interventions; student outcomes, including academic achievement and behavior; and the system components (e.g., staff development, leadership support, and organizational resources at the sites) within each site that facilitate or limit the implementation and sustainability of intensive interventions.

(d) Prepare papers summarizing the analyses conducted under paragraph (c) of these Knowledge Development Activities, submit the papers for review to the advisory committee established under paragraph (a) of the Leadership and Coordination Activities, and, once the papers are approved by the advisory committee, disseminate the papers according to the dissemination strategy developed under paragraph (f) of the Leadership and Coordination Activities.

Technical Assistance and Dissemination Activities

(a) Develop for distribution and use in technical assistance (TA) activities a “blueprint” of implementation components at the LEA level that support educators' use of intensive academic and behavioral interventions for the targeted students, based on current research and the Knowledge Development Activities performed by the Center. The Center must ensure that the TA it develops under this paragraph is informed by research and evidence-based practices, supplemented in subsequent years by the knowledge gained from the research syntheses and site analyses performed under the Knowledge Development Activities section of this priority.

(b) Develop training materials for LEAs (including high-need and rural LEAs) on how to build their capacity to support the implementation of intensive interventions for the targeted students.

(c) Identify, or develop if appropriate, and evaluate self-assessment tools that can be used by schools and LEAs to evaluate the implementation of, and support for, intensive academic and behavioral interventions for the targeted students.

(d) Provide 12 LEAs in a minimum of three States with intensive TA that is designed to assist them in building their capacity to support schools and educators' implementation of intensive reading, mathematics, and behavior interventions for the targeted students.

(f) Develop and coordinate a national technical assistance and dissemination (TA&D) network comprised of a cadre of experts that the Center will use to provide TA to LEAs to assist them in building their capacity to support schools and educators in implementing and sustaining intensive academic and behavioral interventions for the targeted students.

(g) Maintain a Web site that meets government or industry-recognized standards for accessibility and that links to the Web site operated by the Technical Assistance Coordination Center (TACC).

(h) Prepare and disseminate reports, documents, and other materials on intensive academic and behavioral interventions and related topics as requested by OSEP for specific audiences, including families, educators, administrators, policymakers, and researchers. In consultation with the OSEP Project Officer, make selected reports, documents, and other materials available in both English and Spanish.

Leadership and Coordination Activities

(a) Establish and maintain an advisory committee to review activities, products, and outcomes of the Center and provide programmatic support and advice throughout the project period. At a minimum, the advisory committee must meet on an annual basis in Washington, DC, and consist of representatives of SEAs and LEAs, individuals with disabilities, educators, parents of individuals with disabilities, representatives from institutions of higher education, and researchers. The Center must submit the names of proposed members of the advisory committee to OSEP for approval within eight weeks after receipt of the award.

(b) Communicate and collaborate on an ongoing basis with OSEP-funded projects, including the Response to Intervention Center, Center on Positive Behavioral Supports, Center on State Implementation and Scaling-up of Evidence-based Practices, the IDEA Partnership Project, the Regional Resource Centers, and the National Parent Technical Assistance Center. This collaboration could include the joint development of products, the coordination of TA services, and the planning and carrying out of TA meetings and events.

(c) Participate in, organize, or facilitate communities of practice that align with the needs of the project's target audience. Communities of practice should align with the project's objectives to support discussions and collaboration among key stakeholders. The following Web site provides more information on communities of practice: http://www.tadnet.org/communities.

(d) Prior to developing any new product, submit a proposal for the product to the TACC database for approval from the OSEP Project Officer. The development of new products should be consistent with the product definition and guidelines posted on the TACC Web site (http://www.tadnet.org).

(e) Contribute, on an ongoing basis, updated information on the Center's approved and finalized products and services to a database at TACC.

(f) Coordinate with the National Dissemination Center for Individuals with Disabilities to develop an efficient and high-quality dissemination strategy that reaches broad audiences. The Center must report to the OSEP Project Officer the outcomes of these coordination efforts.

(g) Maintain ongoing communication with the OSEP Project Officer through monthly phone conversations and e-mail communication.

Extending the Project for a Fourth and Fifth Year

The Secretary may extend the Center for up to two additional years beyond its original project period of 36 months if a grantee is achieving the intended outcomes of the grant, shows improvement against baseline measures on performance indicators, and is making a positive contribution to the implementation and sustainability of intensive interventions.

References

Allor, J. H., Mathes, P. G., Roberts, J. K., Cheatham, J. P., & Champlin, T. M. (2010). Comprehensive reading instruction for students with intellectual disabilities. Psychology in the Schools, 47, 445-466.

Bambara, L. M., Nonnemacher, S., & Kern, L. (2009). Sustaining school-based individualized positive behavior support. Journal of Positive Behavior Interventions, 11, 161-176.

Berkeley, S., Bender, W. N., Peaster, L. G., & Saunders, L. (2009). Implementation of Response to Intervention: A snapshot of progress. Journal of Learning Disabilities, 42, 85-95.

Boardman, A. G., Arguelles, M. E., Vaughn, S., Hughes, M. T., & Klingner, J. (2005). Special education teachers' views of research-based practices. The Journal of Special Education, 39, 168-180.

Bryant, D. P., Linan-Thompson, S., Ugel, N., Hamff, A., & Hougen, M. (2001). The effects of professional development on middle school general and special education teachers on implementation of reading strategies in inclusive content. Learning Disability Quarterly, 24, 251-264.

Cook, C. R., Crews, S. D., Wright, D. B., Mayer, G. R., Gale, B., Kraemer, B., & Gresham, F. M. (2007). Establishing and evaluating the substantive adequacy of positive behavioral support plans. Journal of Behavioral Education, 16, 191-206.

Denton, C. A., Vaughn, S., & Fletcher, J. M. (2003). Bringing research-based practice in reading intervention to scale. Learning Disabilities Research & Practice, 18, 201-211.

Durlak, J. A., & DuPre, E. P. (2008). Implementation matters: A review of research on the influence of implementation on program outcomes and the factors affecting implementation. American Journal of Community Psychology, 41, 327-350.

Eikeseth, S., Smith, T., Jahr, E., & Eldevik, S., (2002). Intensive behavioral treatment at school for 4-to-7-year old children with autism. Behavior Modification, 26, 49-68.

Fairbanks, S., Sugai, G., Guardino, D., & Lathrop, M. (2007). Response to intervention: Examining classroom behavior support in the second grade. Exceptional Children, 73, 288-310.

Fixsen, D. L., Naoom, S. F., Blasé, K. A., Friedman, R. M., & Wallace, F. (2005). Implementation research: A synthesis of the literature. Tampa, FL: University of South Florida, Louis de la Parte Florida Mental Health Institute.

Freeman, R., Eber, L., Anderson, C., Irvin, L., Horner, R., Bounds, M., & Dunlap, G. (2006). Building inclusive school cultures using school-wide positive behavior support: Designing effective individual support systems for students with significant disabilities. Research and Practice for Persons with Severe Disabilities, 31, 4-17.

Fuchs, L. S. & Fuchs, D. (1986). Effects of systematic formative evaluation: A meta-analysis. Exceptional Children, 53, 199-208.

Fuchs, L. S. & Fuchs, D. (2009). Creating opportunities for intensive intervention for students with learning disabilities. Teaching Exceptional Children, 42, 60-62.

Fuchs, D., Fuchs, L. S. & Stecker, P. M. (2010). The “blurring” of special education in a new continuum of general education placements and services. Exceptional Children, 76, 301-323.

Fuchs, L. S. & Fuchs, D., Powell, S. R., Seethaler, P. M., Cirino, P. T., & Fletcher, J. M. (2008). Intensive intervention for students with mathematics disabilities: Seven principles of effective practice. Learning Disabilities Quarterly, 31, 79-92.

Gersten, R., Beckmann, S., Clarke, B., Foegen, A., Marsh, L., Star, J. R., & Witzel, B. (2009). Assisting students struggling with mathematics: Response to Intervention (RtI) for elementary and middle schools (NCEE 2009-4060). Washington, DC: National Center for Education Evaluation and Regional Assistance, Institute of Education Sciences, U.S. Department of Education. Retrieved November 1, 2010 from http://ies.ed.gov/ncee/wwc/publications/practiceguides/.

Kamps, D., Abbott, M., Greenwood, C., Wills, H., Veerkamp, M., & Kaufman, J. (2008). Effects of small-group reading instruction and curriculum differences for students most at risk in kindergarten: Two-year results for secondary- and tertiary-level interventions. Journal of Learning Disabilities, 41, 101-114.

Kern, L., Hilt-Panahon, A., & Sokol, N. G. (2009). Further examining the triangle tip: Improving support for students with emotional and behavioral needs. Psychology in the Schools, 46, 18-32.

Lewis, T.J., Barrett, S., Sugai, G., Horner, R. H. (2010). Blueprint for schoolwide positive behavior support training and professional development. Eugene, OR: National Technical Assistance Center on Positive Behavior Interventions and Support. Retrieved from http://www.pbis.org.

Mautone, J. A., DuPaul, G. J., Jitendra, A. K., Tresco, K. E., Junod, R. V., & Volpe, R. J. (2009). The relationship between treatment integrity and acceptability of reading interventions for children with attention-deficit/hyperactivity disorder. Psychology in the Schools, 46, 919-931.

O'Connor, A. B., & Healy, O. (2010). Long-term post-intensive behavioral intervention outcomes for five children with autism spectrum disorder. Research in Autism Spectrum Disorders, 4, 594-604.

Roehrig, A. D., Duggar, S. W., Moats, L., Glover, M., & Mincey, B. (2008). When teachers work to use progress monitoring data to inform literacy instruction: Identifying potential supports and challenges. Remedial and Special Education, 29, 364-382.

Sadler, C., & Sugai, G. (2009). Effective behavior and instructional support: A district model for early identification and prevention of reading and behavior problems. Journal of Positive Behavior Interventions, 11, 35-46.

Scammacca, N., Vaughn, S., Roberts, G., Wanzek, J., & Torgesen, J. K. (2007). Extensive reading interventions in grades k-3: From research to practice. Portsmouth, N.H.: RMC Research Corporation, Center on Instruction.

Schumm, J. S., & Vaughn, S. (1995). Meaningful professional development in accommodating students with disabilities. Remedial and Special Education, 16, 344-353.

Shapiro, E. S., Edwards, L., & Zigmond, N. (2005). Progress monitoring of mathematics among students with learning disabilities. Assessment for Effective Intervention, 30, 15-32.

Stecker, P. M., Fuchs, L. S., & Fuchs, D. (2005). Using curriculum-based measurement to improve student achievement: Review of research. Psychology in the Schools, 42, 795-819.

Sugai, G., Horner, R.H., Algozzine, R., Barrett, S., Lewis, T., Anderson, C., Bradley, R., Choi, J. H., Dunlap, G., Eber, L., George, H., Kincaid, D., McCart, A., Nelson, M., Newcomer, L., Putnam, R., Riffel, L., Rovins, M., Sailor, W., Simonsen, B. (2010). School-wide positive behavior support: Implementers' blueprint and self-assessment. Eugene, OR: University of Oregon. Retrieved from http://www.pbis.org.

Swanson, E. A., & Vaughn, S. (2010). An observation study of reading instruction provided to elementary students with learning disabilities in the resource room. Psychology in the Schools, 47, 481-491.

U.S. Department of Education (2010). National Assessment of Educational Progress [Data file]. Retrieved from http://nces.ed.gov/nationsreportcard/naepdata/.

Vaughn, S., Denton, C. A., & Fletcher, J. M. (2010). Why intensive interventions are necessary for students with severe reading difficulties. Psychology in the Schools, 47, 32-444.

Vaughn, S., Moody, S. W., & Schumm, J. S. (1998). Broken promises: Reading instruction in the resource room. Exceptional Children, 64, 211-225.

Wagner, M., Marder, C., Blackorby, J., Cameto, R., Newman, L., Levine, P., & Davies-Mercier, E. (with Chorost, M., Garza, N., Guzman, A., & Sumi, C.) (2003). The achievements of youth with disabilities during secondary school. A report from the national longitudinal transition study—2 (NLTS2). Menlo Park, CA: SRI International. Retrieved November 12, 2010 from http://www.nlts2.org/reports/2003_11/index.html.

Wagner, M., Newman, L., Cameto, R., Levine, P., & Garza, N. (2006). An overview of findings from Wave 2 of the national longitudinal transition study—2 (NLTS2). Menlo Park, CA: SRI International. Retrieved November 12, 2010 from http://ies.ed.gov/ncser/pubs/20063004/.

Wanzek, J. & Vaughn, S. (2010). Tier 3 interventions for students with significant reading problems. Theory Into Practice, 49, 305-314.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1463 and 1481.

Applicable Regulations: The Education Department General Administrative Regulations (EDGAR) in 34 CFR parts 74, 75, 77, 79, 80, 81, 82, 84, 85, 86, 97, 98, and 99.

Note: The regulations in 34 CFR part 79 apply to all applicants except Federally recognized Indian Tribes.

Note: The regulations in 34 CFR part 86 apply to institutions of higher education (IHEs) only.

II. Award Information

Type of Award: Cooperative agreements.

Estimated Available Funds: $1,500,000 for year one of the project period and $2,100,000 for each of years two through five of the project period.

Maximum Awards: We will reject any application that proposes a budget exceeding $1,500,000 for year one of the project period and $2,100,000 for years two through five for a single budget period of 12 months. The Assistant Secretary for Special Education and Rehabilitative Services may change the maximum amount through a notice published in the Federal Register.

Estimated Number of Awards: 1.

Note: The Department is not bound by any estimates in this notice.

Project Period: Up to 36 months with an optional additional 24 months based on performance.

Note: Applications must include plans for both the 36-month award and the 24-month extension.

III. Eligibility Information

1. Eligible Applicants: SEAs; LEAs, including public charter schools that are considered LEAs under State law; IHEs; other public agencies; private nonprofit organizations; outlying areas; freely associated States; Indian Tribes or Tribal organizations; and for-profit organizations.

2. Cost Sharing or Matching: This competition does not require cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: You can obtain an application package via the Internet, from the Education Publications Center (ED Pubs), or from the program office.

To obtain a copy via the Internet, use the following address: http://www.ed.gov/fund/grant/apply/grantapps/index.html.

To obtain a copy from ED Pubs, write, fax, or call the following: ED Pubs, U.S. Department of Education, P.O. Box 22207, Alexandria, VA 22304. Telephone, toll free: 1-877-433-7827. FAX: (703) 605-6794. If you use a telecommunications device for the deaf (TDD), call, toll free: 1-877-576-7734.

You can contact ED Pubs at its Web site, also: http://www.EDPubs.gov or at its e-mail address: edpubs@inet.ed.gov.

If you request an application package from ED Pubs, be sure to identify this program or competition as follows: CFDA number 84.326Q.

To obtain a copy from the program office, contact the person listed under FOR FURTHER INFORMATION CONTACT in section VII of this notice.

Individuals with disabilities can obtain a copy of the application package in an accessible format (e.g., braille, large print, audiotape, or computer diskette) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit the application narrative to the equivalent of no more than 70 pages, using the following standards:

• A “page” is 8.5″ x 11″, on one side only, with 1″ margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit.

3. Submission Dates and Times:

Applications Available: August 12, 2011.

Deadline for Transmittal of Applications: September 12, 2011.

Applications for grants under this competition may be submitted electronically using the Grants.gov Apply site, or in paper format by mail or hand delivery. For information (including dates and times) about how to submit your application electronically, or in paper format by mail or hand delivery, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) Be designated by your organization as an Authorized Organization Representative (AOR); and (2) register yourself with Grants.gov as an AOR. Details on these steps are outlined at the following Grants.gov Web page: http://www.grants.gov/applicants/get_registered.jsp).

7. Other Submission Requirements: Applications for grants under this competition may be submitted electronically or in paper format by mail or hand delivery.

a. Electronic Submission of Applications

We are participating as a partner in the Governmentwide Grants.gov Apply site. The National Center for Students with Disabilities Who Require Intensive Interventions competition, CFDA number 84.326Q, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the National Center for Students with Disabilities Who Require Intensive Interventions competition at http://www.Grants.gov. You must search for the downloadable application package for this program by the CFDA number. Do not include the CFDA number's alpha suffix in your search (e.g., search for 84.326, not 84.326Q).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at http://www.G5.gov.

• You will not receive additional point value because you submit your application in electronic format, nor will we penalize you if you submit your application in paper format.

• If you submit your application electronically, you must submit all documents electronically, including all information you typically provide on the following forms: the Application for Federal Assistance (SF 424), the Department of Education Supplemental Information for SF 424, Budget Information—Non-Construction Programs (ED 524), and all necessary assurances and certifications.

• If you submit your application electronically, you must upload any narrative sections and all other attachments to your application as files in a .PDF (Portable Document) format only. If you upload a file type other than a .PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail

If you submit your application in paper format by mail (through the U.S. Postal Service or a commercial carrier), you must mail the original and two copies of your application, on or before the application deadline date, to the Department at the following address: U.S. Department of Education, Application Control Center, Attention: (CFDA Number 84.326Q), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you submit your application in paper format by hand delivery, you (or a courier service) must deliver the original and two copies of your application by hand, on or before the application deadline date, to the Department at the following address: U.S. Department of Education, Application Control Center, Attention: (CFDA Number 84.326Q), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The Standing Panel requirements under IDEA also have placed additional constraints on the availability of reviewers. Therefore, the Department has determined that for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children with Disabilities program. These measures focus on the extent to which projects provide high-quality products and services, the relevance of project products and services to educational and early intervention policy and practice, and the use of products and services to improve educational and early intervention policy and practice.

Grantees will be required to report information on their project's performance in annual reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

For Further Information Contact: Celia Rosenquist, U.S. Department of Education, 400 Maryland Avenue, SW., room 4052, Potomac Center Plaza (PCP), Washington, DC 20202-2550. Telephone: (202) 245-7373.

If you use a TDD, call the Federal Relay Service (FRS), toll free, at 1-800-877-8339.

VIII. Other Information

Accessible Format: Individuals with disabilities can obtain this document and a copy of the application package in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature on this site, you can limit your search to documents published by the Department.

Dated: August 8, 2011.
Alexa Posny,
Assistant Secretary for Special Education and Rehabilitative Services.

[FR Doc. 2011-20583 Filed 8-11-11; 8:45 am]

BILLING CODE 4000-01-P